NATIONAL SCIENCE FOUNDATION

Notice of Intent To Seek Approval To Extend an Information Collection

ACTION: Notice and request for comments; correction.

SUMMARY: The National Science Foundation (NSF) published a document in the Federal Register of November 15, 2018, concerning request for public comment on its submission to the Office of Management and Budget for their review of the 2019 National Survey of College Graduates. The notice was published with the incorrect name of the requested information collection.

Correction

In the Federal Register published November 15, 2018, in FR Doc. 2018-24928 (Filed 11-14-18), on page 57509, second column, Summary Section, first paragraph, please change the name of the information collection request from Evaluation of the Centers for Chemical Innovation (CCI) Program to 2019 National Survey of College Graduates.

For further information, please contact Suzanne Plimpton at splimpto@nsf.gov or via telephone at 703-292-7556.

Dated: February 4, 2019.
Suzanne H. Plimpton,
Reports Clearance Officer, National Science Foundation.

[FR Doc. 2019-01494 Filed 2-6-19; 8:45 am]

BILLING CODE 7555-01-P